DEPARTMENT OF TRANSPORTATION

Federal Aviation Administration

Public Notice for Waiver of Aeronautical Land-Use Assurance

AGENCY: Federal Aviation Administration (FAA), DOT.

ACTION: Notice of intent of waiver with respect to land; Cherry Capital Airport, Traverse City, Michigan.

SUMMARY: The FAA is considering a proposal to change 1.25 acres of airport land from aeronautical use to non-aeronautical use and to authorize the sale of airport property located at Cherry Capital Airport, Traverse City, Michigan. The aforementioned land is not needed for aeronautical use.

The proposed property is located east of the airport terminal area adjacent to the current South Airport Road right-of-way at the Cherry Capital Airport. The property is currently a wooded area maintained for compatible land use surrounding the airfield. The proposed non-aeronautical land use would be for roadway improvements to support the new commercial/industrial development.

DATES: Comments must be received on or before November 28, 2016.

ADDRESSES: Documents are available for review by appointment at the FAA Detroit Airports District Office, Irene R. Porter, Program Manager, 11677 South Wayne Road, Suite 107, Romulus, Michigan 48174. Telephone: (734) 229-2915/Fax: (734) 229-2950 and Cherry Capital Administrative Offices, 727 Fly Don't Drive, Traverse City, Michigan. Telephone: (231) 947-2250.

Written comments on the Sponsor's request must be delivered or mailed to: Irene R. Porter, Program Manager, Federal Aviation Administration, Airports Detroit District Office, 11677 South Wayne Road, Suite 107, Romulus, Michigan 48174, Telephone Number: (734) 229-2915/FAX Number: (734) 229-2950.

FOR FURTHER INFORMATION CONTACT: Irene R. Porter, Program Manager, Federal Aviation Administration, Airports Detroit District Office, 11677 South Wayne Road, Suite 107, Romulus, Michigan 48174, Telephone Number: (734) 229-2915/FAX Number: (734) 229-2950.

SUPPLEMENTARY INFORMATION: In accordance with section 47107(h) of Title 49, United States Code, this notice is required to be published in the Federal Register 30 days before modifying the land-use assurance that requires the property to be used for an aeronautical purpose.

The property is currently a wooded area maintained for compatible land use surrounding the airfield. The proposed non-aeronautical land use would be for roadway improvements to support the new commercial/industrial development. The property was originally owned by the City of Traverse City, Michigan and was subject to an AP-4 Instrument of conveyance from the City to the United States Government dated May 17, 1943. At the end of the war the U.S. Government transferred the property back to the City of Traverse City, Michigan. In 1966 the National Emergency Use Provision was released from this property. The airport will receive Fair Market Value for the land to be transferred to the County to support the road improvements. The disposition of proceeds from the sale of the airport property will be in accordance with FAA's Policy and Procedures Concerning the Use of Airport Revenue, published in the Federal Register on February 16, 1999 (64 FR 7696).

This notice announces that the FAA is considering the release of the subject airport property at the Cherry Capital Airport, Traverse City, Michigan, from federal land covenants, subject to a reservation for continuing right of flight as well as restrictions on the released property as required in FAA Order 5190.6B section 22.16. Approval does not constitute a commitment by the FAA to financially assist in the disposal of the subject airport property nor a determination of eligibility for grant-in-aid funding from the FAA.

Property Description

Part of Section 18, T27N, R10W, City of Traverse City, Grand Traverse County, Michigan, described as: Commencing at the West ¼ corner of said Section; Thence S00°45′58″ W. 1244.58 feet along the West line of said Section to the Point of Beginning of this description: Thence N87°42′41″ E. 2098.16 feet along a line that is 75 feet north of and parallel with the South line of the North ½ of the Southwest ¼ of said Section; Thence Northeasterly 127.77 feet along a 1834.86 foot radius curve to the left, the long chord of which bears N85°43′00″ E. 127.74 feet to the North and South ¼ line of said Section as monumented; Thence S00°18′36″ E. 22.12 feet along said North and South ¼ line to the Northerly line of the Right of Way as described in Document number 2007R-1 0240, Grand Traverse County Register of Deeds; Thence Southwesterly 127.00 feet along a 1856.86 foot radius curve to the right, the long chord of which bears S85°45′07″ W. 126.97 feet; Thence S87°42′41″ W. 2099.33 feet (previously recorded as 2101.33 feet) along a line which is 53 feet north of, and parallel with the South line of the North ½ of the Southwest ¼ of said Section to the West line of said Section; Thence N00°45′58″ E. 22.03 feet to the point of Beginning of this description. Containing 1.25 Acres.

Issued in Romulus, Michigan, on October 12, 2016.
John L. Mayfield, Jr.,
Manager, Detroit Airports District Office, FAA, Great Lakes Region.

[FR Doc. 2016-26087 Filed 10-27-16; 8:45 am]

BILLING CODE 4910-13-P